ENVIRONMENTAL PROTECTION AGENCY

[FRL-8731-4]

Proposed Agreement and Covenant Not To Sue Pursuant to the Comprehensive Environmental Response, Compensation, and Liability Act; In Re: Elizabeth Mine Superfund Site, Located in Strafford and Thetford, VT

AGENCY: Environmental Protection Agency.

ACTION: Notice of proposed agreement; request for public comment.

SUMMARY: In accordance with the Comprehensive Environmental Response, Compensation, and Liability Act, as amended (“CERCLA”), 42 U.S.C. 9601, et seq., notice is hereby given of a proposed Agreement and Covenant Not to Sue between the United States, on behalf of the U.S. Environmental Protection Agency (“EPA”), the Vermont Agency of Natural Resources (“ANR”) and Settling Parties Theodore Zageski, the Estate of Leonard Cook, and the Elizabeth Mine Corporation (collectively “Settling Parties”).

This proposed Agreement includes a Covenant Not to Sue by the United States under sections 106 and 107(a) of CERCLA, 42 U.S.C. 9606 and 9607(a), and section 7003 of the Resource Conservation and Recovery Act, as amended (“RCRA”), 42 U.S.C. 6973; and a Covenant Not to Sue by the Vermont Agency of Natural Resources under section 107(a) of CERCLA, 42 U.S.C. 9607(a), and 10 V.S.A 6615.

In the proposed Agreement, the Settling Parties have agreed to give the Environmental Protection Agency permission to remove and use earthen material such as rock and/or soil overburden materials such as topsoil, sand, silt, clay, gravel, cobbles, and boulders located on land owned by them for use in implementing response actions at the Elizabeth Mine Superfund Site. In addition, the Settling Parties will record a Notice with the Towns of Strafford and Thetford, Vermont that the property is subject to a CERCLA response action and record a Grant of Environmental Restrictions, Right of Access and Easement under the proposed Agreement.

For thirty (30) days following the date of publication of this Notice, the Agency will receive written comments relating to the settlement. The Agency will consider all comments received and may modify or withdraw its consent to the settlement if comments received disclose facts or considerations which indicate that the settlement is inappropriate, improper, or inadequate. Commenters may request an opportunity for a public meeting to be held in the area of Strafford or Thetford, Vermont, in accordance with section 7003(d) of RCRA, 24 U.S.C. 6973(d). The Agency's response to any comments received will be available for public inspection at One Congress Street, Suite 1100, Boston, MA 02114.

DATES: Comments must be submitted by November 19, 2008.

ADDRESSES: Comments or request for a public meeting should be addressed to the Regional Hearing Clerk, U.S. Environmental Protection Agency, Region 1, One Congress Street, Suite 1100, Mailcode RAA, Boston, Massachusetts 02203 and should refer to: In re: Elizabeth Mine Superfund Site, U.S. EPA Docket No. CERCLA-01-2008-0044.

FOR FURTHER INFORMATION CONTACT: A copy of the proposed Agreement can be obtained from Steven Schlang, U.S. Environmental Protection Agency, Region 1, One Congress Street, Mailcode SEL, Boston, Massachusetts 02114 or at (617) 918-1773.

Dated: September 22, 2008.
James T. Owens III,
Director, Office of Site Remediation and Restoration, Region 1.

[FR Doc. E8-24870 Filed 10-17-08; 8:45 am]

BILLING CODE 6560-50-P